DEPARTMENT OF JUSTICE

Notice of lodging of consent decree pursuant to the Comprehensive Environmental Response, Compensation, and Liability Act and the Resource Conservation and Recovery Act

Notice is hereby given that a proposed consent decree in In re: Cuyahoga Equipment Corporation, et al., Case Nos. 86-12206, et al. (PCB) (Jointly Administered) (Bkcy. S.D.N.Y.), was lodged on January 11, 2000, with the United States Bankruptcy Court for the Southern District of New York. The proposed consent decree would settle a claim asserted in this Chapter 11 bankruptcy proceeding by the United States on behalf of the United States Environmental Protection Agency (“EPA”) for reimbursement of post-petition administrative expenses in the nature of environmental response costs incurred with respect to the Publicker Industries, Inc. Superfund Site in Philadelphia, Pennsylvania (the “Publicker Site”). The United States, on behalf of EPA, alleged in a separate federal court action that Cuyahoga Wrecking Corporation and Overland Corporation, two of the debtors involved in the bankruptcy proceeding, were liable as owners and/or operators of the Publicker Site under Section 107(a)(1) and (2) of the Comprehensive Environmental Response Compensation and Liability Act (“CERCLA”), 42 U.S.C. § 9607(a)(1), (2) for, inter alia, reimbursement of the United States' response costs incurred in connection with the Publicker Site. United States and Commonwealth of Pennsylvania v. Publicker Industries, Inc., et al., Civ. No. 90-7984 (E.D. Pa.). Through that litigation and other cost recovery efforts, the United States previously recovered and expects to recover $16.85 million of the $21.4 million in costs it incurred at the Site, leaving unreimbursed costs, exclusive of prejudgment interest, of approximately $4.55 million.

Under the terms of the proposed consent decree, the United States will recover from the Chapter 11 bankruptcy trustee for the debtors' estate the sum of $1 million, to be paid to the EPA Hazardous Substances Superfund.

The Department of Justice will receive, for a period of thirty (30) days from the date of this publication, comments relating to the proposed consent decree. Comments should be addressed to the Assistant Attorney General of the Environment and Natural Resources Division, Department of Justice, Washington, D.C. 20530, and should refer to In re: Cuyahoga Equipment Corporation, et al., DOJ Ref. No. 90-11-3-442. Commenters may request an opportunity for a public meeting in the affected area, in accordance with Section 7003(d) of the Resource Conservation and Recovery Act, 42 U.S.C. § 6973(d).

The proposed consent decree may be examined at the office of the United States Attorney for the Southern District of New York, 100 Church Street, 19th Floor, New York, New York 10007; the Region III Office of the Environmental Protection Agency, located at 1650 Arch Street, Philadelphia, Pennsylvania 19103. A copy of the proposed consent order may also be obtained by mail from the Department of Justice Consent Decree Library, P.O. Box 7611, Washington, D.C. 20044-7611. In requesting a copy, please refer to the referenced case and enclose a check in the amount of $5.25 (25 cents per page reproduction costs) payable to the Consent Decree Library.

Joel Gross,
Chief, Environmental Enforcement Section, Environment and Natural Resources Division.

[FR Doc. 00-1880 Filed 1-26-00; 8:45 am]

BILLING CODE 4410-15-M